COMMISSION ON CIVIL RIGHTS

Notice of Public Meeting of the Indiana Advisory Committee; Correction

AGENCY: Commission on Civil Rights.

ACTION: Notice; Revision to registration link and telephone access information.

SUMMARY: The U.S. Commission on Civil Rights published a notice in the Federal Register on Monday, June 5, 2023, concerning meetings of the Indiana Advisory Committee. The registration link and telephone access information for the upcoming meetings have been updated.

FOR FURTHER INFORMATION CONTACT: Ivy Davis, Director of Eastern Regional Office and Designated Federal Officer, at ero@usccr.gov or 1-202-539-8468.

Correction: In the Federal Register on Monday, June 5, 2023, in FR Document Number 2023-11830, on page 36529, second column, correct the registration link to https://bit.ly/3FFKaVq and correct the telephone access information to 1-833-435-1820, Webinar ID: 161 660 6833#.

Dated: October 31, 2023.
David Mussatt,
Supervisory Chief, Regional Programs Unit.

[FR Doc. 2023-24360 Filed 11-2-23; 8:45 am]

BILLING CODE P